DEPARTMENT OF DEFENSE

Sunshine Act Meeting

AGENCY: Office of the Assistant Secretary of Defense (Health Affairs), DoD.

ACTION: Notice of meeting.

SUMMARY: Pursuant to the Federal Advisory Committee Act of 1972 (5 U.S.C., Appendix, as amended) and the Sunshine in the Government Act of 1976 (5 U.S.C. 552b, as amended), announcement is made of the following committee meeting:

Name of Committee: Department of Defense Task Force on the Future of the Military Health Care, a duly established subcommittee of the Defense Health Board.

Date of Meeting: March 28, 2007.

Time of Meeting: 8:30 a.m. to 4 p.m.

Place of Meeting: National Transportation Safety Board Conference Center, 429 L'Enfant Plaza, Washington, DC 20594.

Purpose of Meeting: To obtain, review, and evaluate information related to the Task Force's congressionally-directed mission to examine matters relating to the future of military health care. The Task Force members will receive briefings on topics related to the delivery of military health care during the public meeting.

Agenda: Discussion topics include Beneficiary and Government cost sharing structure and premium payments structure.

Prior to the public meeting the Task Force will conduct an Administrative Working Meeting from 8:30 a.m. to 9:15 a.m. to discuss solely administrative matters of the Task Force. In addition, the Task Force, following its public meeting, will conduct a Preparatory Working Meeting from 3:30 p.m. to 4 p.m. to solely analyze relevant issues and facts in preparation for the Task Force's next meeting. Both the Administrative and Preparatory Working Meetings will be held at the National Transportation Safety Board Conference Center. Pursuant to 41 Code of Federal Regulations, Part 102-3.160, both the Administrative and Preparatory Working Meetings will be closed to the public.

Additional information and meeting registration is available online at the Defense Health Board Web site, http://www.ha.osd.mil/dhb.

FOR FURTHER INFORMATION CONTACT: Colonel Christine Bader, Executive Secretary, Department of Defense Task Force on the Future of Military Health Care, Skyline One, 5205 Leesburg Pike, Suite 810, Falls Church, VA 22041, (703) 681-3279, ext. 109 (christine.bader@ha.osd.mil).

SUPPLEMENTARY INFORMATION: Open sessions of the meeting will be limited by space accommodations. Any interested person may attend; however, seating is limited to the space available at the National Transportation Safety Board Conference Center. Individuals or organizations wishing to submit written comments for consideration by the Task Force should provide their comments in an electronic (PDF Format) document to the Executive Secretary of the Department of Defense Task Force on the Future of Military Health Care, christine.bader.@ha.osd.mil, no later than 10 business days prior to the scheduled meeting.

Dated: March 6, 2007.
C.R. Choate,
Alternate OSD Federal Register Liaison Officer, Department of Defense.

[FR Doc. 07-1138 Filed 3-7-07; 1:08 pm]

BILLING CODE 5001-06-M